FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012294.

Title: APL/LGL Space Charter and Cooperative Working Agreement.

Parties: American President Lines, Ltd. and Liberty Global Logistics LLC.

Filing Party: Eric. C. Jeffrey, Esq.; Nixon Peabody LLP; 401 9th Street NW., Suite 900; Washington, DC 20004.

Synopsis: The agreement authorizes APL to charter space to and otherwise cooperate with LGL in connection with the U.S. Global Privately Owned Vehicle Contract in the trade between the United States, on the one hand, and the Mediterranean, the Middle East, and the Far East (including South East Asia), on the other hand.

Agreement No.: 012295.

Title: Hoegh/Hyundai Glovis Middle East Space Charter Agreement.

Parties: Hoegh Autoliners AS; and Hyundai Glovis Co. Ltd.

Filing Party: Wayne Rohde, Esq.; Cozen O'Connor; 1627 I Street NW., Suite 1100; Washington, DC 20006.

Synopsis: The agreement would authorize Hyundai Glovis to charter space to Hoegh in the trade from the U.S. East and Gulf Coasts, on the one hand, to Spain, Lebanon, Saudi Arabia, Oman, United Arab Emirates, Bahrain, Jordan, Qatar, Kuwait, and Singapore, on the other hand.

Agreement No.: 012296.

Title: GWF/MSC U.S. Central America Space Charter Agreement.

Parties: Great White Fleet Liner Services, Ltd.; and MSC Mediterranean Shipping Company S.A.

Filing Party: Wayne Rohde, Esq.; Cozen O'Connor; 1627 I Street NW., Suite 1100; Washington, DC 20006.

Synopsis: The agreement authorizes the parties to discuss and agree on the provision and operation of vessels by MSC and the chartering of space on said vessels to GWF in the trade between the U.S. East and Gulf Coasts, on the one hand, and the Bahamas, Guatemala, Honduras, Costa Rica, and Panama, on the other hand.

By Order of the Federal Maritime Commission.
Dated: September 12, 2014.
Rachel E. Dickon,
Assistant Secretary.

[FR Doc. 2014-22173 Filed 9-16-14; 8:45 am]

BILLING CODE 6730-01-P